BROADCASTING BOARD OF GOVERNORS

Sunshine Act Meeting Notice

DATE AND TIME: Wednesday, December 18, 2013, 8:30 a.m.-12:30 p.m. EST.

PLACE: Cohen Building, Room 3321, 330 Independence Ave. SW., Washington, DC 20237.

SUBJECT: Notice of Meeting of the Broadcasting Board of Governors.

SUMMARY: The Broadcasting Board of Governors (BBG) will be meeting at the time and location listed above. The Board will vote on a consent agenda consisting of the minutes of the October 23, 2013 meeting and the full set of amended By-Laws reflecting changes previously adopted by the Board and proposed technical amendments. The BBG will discuss and vote on an interim management structure for the International Broadcasting Bureau. Finally, the BBG will receive a presentation providing an overview of the Voice of America and convene a discussion panel on the transition of international media organizations in the digital age.

This meeting will also be available for public observation via streamed webcast, both live and on-demand, on the BBG's public Web site at www.bbg.gov. Information regarding this meeting, including any updates or adjustments to its starting time, can also be found on the Agency's public Web site.

The public may also attend this meeting in person, unless the partial government shutdown persists, at the address listed above as seating capacity permits. Member of the public seeking to attend the meeting in person must register at https://bbgboardmeetingdecember2013.eventbrite.com by 12:00 p.m. (EST) on December 17. For more information, please contact BBG Public Affairs at (202) 203-4400 or by email at pubaff@bbg.gov.

CONTACT PERSON FOR MORE INFORMATION: Persons interested in obtaining more information should contact Paul Kollmer-Dorsey at (202) 203-4545.

Paul Kollmer-Dorsey,
General Counsel.

[FR Doc. 2013-29909 Filed 12-12-13; 11:15 am]

BILLING CODE 8230-01-P